ENVIRONMENTAL PROTECTION AGENCY

[FRL-7545-9]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2088.01; Reporting and Recordkeeping Requirements under EPA's Hospitals for a Healthy Environment (H2E) Program; was approved 07/14/2003; OMB Number 2070-0166; expires 07/31/2006.

Dated: August 7, 2003.
Doreen Sterling,
Acting Director, Collection Strategies Division.

[FR Doc. 03-21183 Filed 8-18-03; 8:45 am]

BILLING CODE 6560-50-P